DEPARTMENT OF HOMELAND SECURITY

Coast Guard

[Docket No. USCG-2017-1073]

Certificate of Alternative Compliance for M/V NORDLAND II (O.N. 1274463)

AGENCY: Coast Guard, DHS.

ACTION: Notice.

SUMMARY: The Coast Guard announces that a Certificate of Alternative Compliance from the International Regulations for Preventing Collisions at Sea, 1972 (72 COLREGS) was issued for M/V NORDLAND II (O.N. 1274463). We are issuing this notice because it is required by statute. The M/V NORDLAND II is a vessel of special purpose that, with respect to the position of the lighting, it is not possible to comply fully with the requirements of the 72 COLREGS, without interfering with the normal operation, construction, or design of the vessel. The issuance of the certificate of alternate compliance promotes maritime safety and stewardship missions.

DATES: The Certificate of Alternative Compliance was issued on December 20, 2017.

FOR FURTHER INFORMATION CONTACT: If you have questions on this notice, call Lieutenant B. Luke Woods, Thirteenth Coast Guard District, Prevention Branch, U.S. Coast Guard, telephone 206-220-7232.

SUPPLEMENTARY INFORMATION: A Certificate of Alternative Compliance, as allowed under the provisions of the Alternative Compliance Regulations (33 CFR 81 and 89), has been issued for the M/V NORDLAND II (O.N. 1274463). The vessel's primary purpose is as a work boat. The unique design of the vessel did not lend itself to full compliance with Annex I, of the 72 COLREGS and 33 CFR 84.05(b) and (d) of the International and Inland Navigational Rules.

The U.S. Coast Guard certifies that full compliance with the International and Inland Navigational Rules would interfere with the special functions and intent of the vessel and would not significantly enhance the safety of the vessel's operation. Due to the design of the vessel, the superstructure is offset to the starboard side of the vessel as far aft as practical in order to permit the loading of two vehicles on the forward part of the main deck.

The Certificate of Alternative Compliance authorizes the M/V NORDLAND II (O.N. 1274463) to deviate from the requirements set forth in Annex I of the International Navigational Rules and 33 CFR 84.05 of the Inland Navigational Rules by placing its required lights about a line aft of amidships and 7 feet and 6 starboard of the vessel's centerline.

This notice is issued under authority of 33 U.S.C. 1605(c) and 33 CFR 81.18.

Dated: December 20, 2017.
B.S. Gilda,
Captain, U.S. Coast Guard, Prevention Chief, Thirteenth Coast Guard District.

[FR Doc. 2018-01596 Filed 1-26-18; 8:45 am]

BILLING CODE 9110-04-P